DEPARTMENT OF DEFENSE

Corps of Engineers, Department of the Army

33 CFR Part 207

RIN 0710-AA63

Navigation Regulations

AGENCY: U.S. Army Corps of Engineers, DoD.

ACTION: Notice of proposed rulemaking and request for comments.

SUMMARY: The Corps is proposing to amend the regulations for lockage operations at Bonneville Lock and Dam and amend the regulations which establish the restricted areas at Little Goose Lock and Dam. The Corps is making corrections and adjustments to the lockage control, signals, and permissible dimensions of vessels for Bonneville Lock and Dam. These changes correct language for the new replacement lock. For the Little Goose Lock and Dam the Corps is making adjustments in the upstream channel restricted area boundary to provide a recreational craft corridor along the north shoreline. This will provide better boat ramp access in support of the small craft portage route and reduce interference between fisherman and the boat ramp.

DATES: Comments must be submitted on or before December 8, 2005.

ADDRESSES: Written comments should be sent to the U.S. Army Corps of Engineers, ATTN: CECW-NWD, 441 G Street NW., Washington, DC 20314-1000. Comments may also be faxed to (202) 761-5096 or e-mail to: Ken.C.Hall@usace.army.mil.

FOR FURTHER INFORMATION CONTACT: Mr. Ken Hall, Program Manager, CECW-NWD at (202) 761-4717, or Brian Schmidtke, (503) 808-4333 for Bonneville Lock and Dam or Ms. Ann Glassley at (509) 527-7115 for Little Goose Lock and Dam.

SUPPLEMENTARY INFORMATION: Pursuant to its authorities in section 4, 7, and 28 of the Rivers and Harbors Act of 1917 (40 Stat. 266; 33 U.S.C. 1) and Chapter XIX of the Army Appropriations Act of 1919 (40 Stat. 892; 33 U.S.C. 3), the Corps proposes to amend the regulations in 33 CFR part 207.718. The Corps is proposing to amend the regulations in 33 CFR part 207.718 (b), (d)(3), (e), (f)(1), (j) and (w)(7). Paragraph (b) changes the description of the limits of the approach channels at Bonneville Lock and Dam. Paragraph (d)(3) deletes the Bonneville Lock and Dam specific exception referring to vessels entering under an amber light. This provides consistent entering and exiting signals for the entire Columbia/Snake lock and dam system. Paragraph (e) had several changes. The new paragraph deletes the Bonneville specific exception on useable chamber size. The new paragraph adds text detailing the Bonneville Lock and Dam staff gauges, sill elevations, and how to compute depth over the sill, since Bonneville's staff gauges are different from all other Columbia/Snake lock and dams that directly read depth over the sill. The new paragraph replaces a sentence referring to vessel draft so it refers to depth over the sill and not staff gauge readings. This change makes the sentence correct for all Columbia/Snake locks including Bonneville. The new paragraph corrects the minimum depth over the sill at Bonneville Lock and Dam at 19 feet. The new paragraph deletes three sentences concerning rearrangement of tows specifically at Bonneville Lock and Dam, and the new paragraph deletes one sentence concerning inundation of the downstream guide wall at Bonneville Lock and Dam. Paragraph (f)(1) corrects grammar by changing the last word from “sections” to “section.” Paragraph (j) includes grammatical changes and corrects and details the location of the downstream mooring facility at Bonneville Lock and Dam. This new paragraph also deletes reference to vessels being allowed to lay-to against the upstream guide wall at Bonneville Lock and Dam. Paragraph (w)(7) revises the upstream restricted area of Little Goose Lock and Dam to allow less interference between fisherman and the boat ramp on the north river bank as more small craft portaging is expected coinciding with the Lewis and Cark bicentennial. The regulation governing the navigation locks and approach channels, Columbia and Snake Rivers, Washington and Oregon, 33 CFR 207.718 was adopted on January 23, 1978 (43 FR 3115). The last amendment to 33 CFR 207.718 January 26, 2000 (65 FR 4125). This proposed rule is not a major rule for the purposes of Executive Order 12866. As required by the Regulatory Flexibility Act, the Corps of Engineers certifies that this proposed rule would not have a significant impact on small business entities.

List of Subjects in 33 CFR Part 207

Navigation (water), Vessels, Water Transportation, Danger Zones.

Dated: October 11, 2005.
Gerald W. Barnes,
Chief, Operations, Directorate of Civil Works.

For the reasons stated above, the Corps proposes to amend 33 CFR part 207 as follows:

PART 207—NAVIGATION REGULATIONS

1. The authority citation for part 207 continues to read as follows:

Authority: 40 Stat. 266 (33 U.S.C. 1).

2. Amend § 207.718 by revising paragraphs (b), (d)(3), (e), (f)(1), (j) and (w)(7) to read as follows.

§ 207.718 Navigation locks and approach channels, Columbia and Snake Rivers, Oreg. and Wash.

* * * * *

(b) Lockage control. The Lock Master shall be charged with immediate control and management of the lock, and of the area set aside as the lock area, including the lock approach channels. Upstream and downstream approach channels extend to the end of the wing or the guide wall, whichever is longer. At Bonneville lock the upstream approach channel extends to the mooring tie offs at Fort Rains and the downstream approach channel extends to the downstream tip of Robins Island. The Lock Master shall demand compliance with all laws, rules and regulations for the use of the lock and lock area and is authorized to issue necessary orders and directions, both to employees of the Government or to other persons within the limits of the lock or lock area, whether navigating the lock or not. Use of lock facilities is contingent upon compliance with regulations, Lock Master instructions and the safety of people and property.

* * * * *

(d) * * *

(3) Entering and exit signals. Signal lights are located outside each lock gate. When the green (go) light is on, all vessels will enter in the sequence prescribed by the Lock Master. When the red (stop) light is on, the lock is not ready for entrance and vessels shall stand clear. In addition to the above visual signals, the Lock Master will signal that the lock is ready for entrance by sounding one long blast on the lock air horn. The Lock Master will signal that the lock is ready for exit by lighting the green exit light and sounding one short blast on the air horn.

* * * * *

(e) Permissible dimensions of vessels. Nominal overall dimensions of vessels allowed in the lock chamber are 84 feet wide and 650 feet long. Depth of water in the lock depends upon river levels which may vary from day to day. Staff gauges showing the minimum water level depth over gate sills are located inside the lock chamber near each lock gate and outside the lock chamber near the end of both upstream and downstream guide walls, except at Bonneville where the staff gauges show water levels in feet above MSL and are located on the southern guide walls at the upstream and downstream miter gates. Bonneville's upstream sill elevation is 51 feet MSL and the downstream sill elevation is—12 feet MSL. Depth over sill at Bonneville is determined by subtracting the sill elevation from the gauge reading. Vessels shall not enter the navigation lock unless the vessel draft is at least one foot less than the water depth over the sill. Information concerning allowable draft for vessel passage through the locks may be obtained from the Lock Master. Minimum lock chamber water level depth is 15 feet except at Ice Harbor where it is 14 feet and at Bonneville where it is 19 feet. When the river flow at Lower Granite exceeds 330,000 cubic feet per second the normal minimum 15-foot depth may be decreased to as little as eight feet.

* * * * *

(f) * * *

(1) When a recreational vessel lockage schedule is in effect, at the appointed time for lockage of recreation craft, recreation craft shall take precedence; however, commercial vessels may be locked through with recreation craft if safety and space permit. At other than the appointed time, the lockage of commercial and tow vessels shall take precedence and recreational craft may (only) lock through with commercial vessels only as provided in paragraph (h) of this section.

* * * * *

(j) Waiting for lockage. Vessels waiting for lockage shall wait in the clear outside of the lock approach channel, or contingent upon permission by the Lock Master, may at their own risk, lie inside the approach channel at a place specified by the Lock Master. At Bonneville, vessels may at their own risk, lay-to at the downstream moorage facility on the north shore downstream from the north guide wall provided a 100-foot-wide open channel is maintained.

* * * * *

(w) * * *

(7) At Little Goose Lock and Dam. The waters restricted to all vessels, except Government vessels, are described as all waters commencing at the upstream of the navigation lock guidewall and running in a direction of 60°37′ true for a distance of 676 yards; thence 345°26′ true for a distance of 494 yards; thence 262°37′47″ true to the dam embankment shoreline. The downstream limits commence 512 yards downstream and at right angles to the axis of the dam on the south shore; thence parallel to the axis of the dam to the north shore. Signs designate the restricted areas.

* * * * *

[FR Doc. 05-21171 Filed 10-21-05; 8:45 am]

BILLING CODE 3710-92-P